DEPARTMENT OF HEALTH AND HUMAN SERVICES

Food and Drug Administration

[Docket No. FDA-2019-N-2836]

Allergenic Products Advisory Committee; Notice of Meeting; Correction

AGENCY: Food and Drug Administration, HHS.

ACTION: Notice; correction.

SUMMARY: The Food and Drug Administration (FDA) is correcting a notice entitled “Allergenic Products Advisory Committee; Notice of Meeting” that appeared in the Federal Register of June 24, 2019. The document announced a forthcoming public advisory committee meeting of the Allergenic Products Advisory Committee. The document was published with the incorrect name of the committee in the Agenda portion of the notice. This document corrects that error.

FOR FURTHER INFORMATION CONTACT: Capt. Serina Hunter-Thomas or Ms. Monique Hill, Center for Biologics Evaluation and Research, Food and Drug Administration, 10903 New Hampshire Ave., Bldg. 71, Rm. 6338, Silver Spring, MD 20993-0002, 240-402-5771, serina.hunter-thomas@fda.hhs.gov or 301-796-4620, monique.hill@fda.hhs.gov, respectively; or FDA Advisory Committee Information Line, 1-800-741-8138 (301-443-0572 in the Washington, DC area).

SUPPLEMENTARY INFORMATION: In the Federal Register of Monday, June 24, 2019, 84 FR 29524, in FR Doc. 2019-13354, the following correction is made:

On page 29525, in the first column, under the headings, SUPPLEMENTARY INFORMATION and “Agenda”, the first sentence is corrected to read “On September 13, 2019, the Center for Biologics Evaluation and Research (CBER) Allergenic Products Advisory Committee (APAC) will meet in open session to discuss and make recommendations on the safety and efficacy of Peanut (Arachis hypogaea) Allergen Powder manufactured by Aimmune Therapeutics, Inc., indicated for treatment to reduce the risk of anaphylaxis after accidental exposure to peanut in patients aged 4 to 17 years with a confirmed diagnosis of peanut allergy.”

Dated: July 8, 2019.
Lowell J. Schiller,
Principal Associate Commissioner for Policy.

[FR Doc. 2019-14779 Filed 7-10-19; 8:45 am]

BILLING CODE 4164-01-P